DEPARTMENT OF COMMERCE

National Oceanic and Atmospheric Administration

RIN 0648-XE188

Endangered and Threatened Species; Take of Anadromous Fish

AGENCY: National Marine Fisheries Service (NMFS), National Oceanic and Atmospheric Administration (NOAA), Commerce.

ACTION: Applications for three new scientific research permits and three permit renewals.

SUMMARY: Notice is hereby given that NMFS has received six scientific research permit application requests relating to Pacific salmon and steelhead. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on October 19, 2015.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Lower Columbia River (LCR); threatened Puget Sound (PS); threatened Snake River (SR) fall-run; threatened SR spring/summer-run (spr/sum); endangered Upper Columbia River (UCR) spring-run; threatened Upper Willamette River (UWR).

Steelhead (O. mykiss): Threatened UCR; Threatened SR; threatened middle Columbia River (MCR); threatened LCR; threatened PS; threatened UWR.

Sockeye salmon (O. nerka): Endangered SR.

Chum salmon (O. keta): Threatened Columbia River (CR).

Coho salmon (O. kisutch): Threatened LCR; threatened Oregon Coast (OC).

Authority

Scientific research permits are issued in accordance with section 10(a)(1)(A) of the ESA (16 U.S.C. 1531 et. seq) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1336-7R

Port Blakely Farms (PBF) is seeking to renew its permit to take juvenile LCR Chinook salmon, UWR Chinook salmon, PS Chinook salmon, LCR coho salmon, LCR steelhead, UWR steelhead, and PS steelhead in headwater streams in western Oregon and Washington. The purpose of the research is to evaluate factors limiting fish distribution and water quality in streams that cross land owned by PBF. The research would benefit listed salmonids by producing data to be used in conserving and restoring critical habitat. The researchers propose to capture (using backpack electrofishing and dipnetting), handle, and release juvenile fish. The PBF researchers do not intend to kill any fish being captured, but some may die as an unintentional result of the research activities.

Permit 15486-2R

West Fork Environmental is seeking to renew its permit to capture and handle juvenile UCR Chinook salmon, LCR Chinook salmon, UWR Chinook salmon, PS Chinook salmon, LCR coho salmon, OC coho salmon, UCR steelhead, LCR steelhead, UWR steelhead, and PS steelhead during the course of headwater stream surveys over wide parts of Oregon and Washington. The purpose of the research is to provide owners of industrial forest lands and state lands managers with accurate maps of where threatened and endangered salmonids are found on state and industrial forest lands. The work would benefit the salmon and steelhead by helping land managers plan and carry out their activities in ways that would have the smallest effect possible on the listed fish. The fish would be captured using backpack electrofishing equipment and released without tagging or even handling more than is necessary to ensure that they have recovered from the effects of being captured. The West Fork Environmental researchers do not intend to kill any listed salmonids, but a small number may die as an unintended result of the activities.

Permit 16784-2R

Hart Crowser, Inc. is seeking to renew a one-year scientific research permit to take juvenile SR fall Chinook salmon, SR spr/sum Chinook salmon, UCR Chinook salmon, UWR Chinook salmon, LCR Chinook salmon, CR chum salmon, LCR coho, SR sockeye salmon, SR steelhead, UCR steelhead, MCR steelhead, LCR steelhead, and UWR steelhead. The objective of the research is to study the degree to which juvenile salmonids may be getting stranded by ship wakes along the lower Columbia River between river miles 21 and 102. The researchers would investigate the potential for stranding at approximately 24 “high risk” sites. The researchers would also evaluate whether the strategic placement of dredged material could reduce the risk of stranding. The research would benefit the listed species by helping river managers determine the likelihood of juvenile stranding along the lower river and investigate potential means for reducing it. Hart Crowser, Inc. would use beach seines to capture, handle, and release juvenile fish. Researchers may also collect stranded fish and return them to the river. Hart Crowser, Inc. does not intend to kill any of the fish being captured but a small number may die as an unintended result of the activities.

Permit 19587

The Columbia River Estuary Study (CREST) is requesting a three-year scientific research permit to take LCR Chinook salmon, CR chum salmon, and LCR coho salmon. The objective of the research is to study the effectiveness of habitat restoration in Meglar Creek, Washington. The research would evaluate fish passage and habitat use in Meglar Creek and the Columbia River nearshore environment at the mouth of Meglar Creek. The CREST researchers would capture fish with a trap net. A portion of the juvenile Chinook and coho salmon would be anesthetized and tagged with passive integrated transponder tags (PIT-tags). The research would benefit listed salmonids by determining how effectively currently altered habitats support salmonids and using that information to guide future habitat modifications. CREST does not intend to kill any listed fish but a small number may die as an unintended result of the research activities.

Permit 19690

The Idaho Department of Fish and Game (IDFG) is seeking a five-year permit to take adult SR spr/sum Chinook, SR sockeye, and SR steelhead at a location approximately one mile upstream from the confluence of the Lemhi and Salmon Rivers in Idaho. Under the permit, they would trap adult Chinook and steelhead at a temporary weir, measure and tag them with PIT-tags, and monitor their movements in the Lemhi Valley with the purpose of determining the animals' response to habitat improvements throughout the subbasin. All adult sockeye salmon captured at the weir would simply be handled and released without being tagged. The weir would operate in 12-hour increments (checked at least twice daily), and all fish to be tagged would be anesthetized before the process, and allowed to recover afterwards; they would then be released back to the river upstream from the weir. The researchers would also collect scale and tissue samples from a number of fish for DNA analysis. The research is intended to form an integral part of an ongoing program that intensively monitors a number of ecological parameters in the Lemhi watershed. The weir operation would allow greater resolution of both adult return numbers and fish movement in the area, and it would feed that data into the information stream being generated by the overall program. The research would benefit the fish by providing new information that managers can use to (1) evaluate and monitor steelhead and Chinook status in the region, and (2) design and deploy increasingly effective habitat restoration actions throughout the fishes' range. The researchers do not intend to kill any of the listed fish, but a few may die as an inadvertent result of the planned activities.

Permit 19741

The Yakama Nation is seeking a five-year permit to annually take juvenile, natural MCR steelhead during the course of a research project designed to assess their current abundance in the Rock Creek watershed in south central Washington. Under the permit, the researchers would employ backpack electrofishing to capture a number of juvenile MCR steelhead. Some of those fish would be tagged with PIT-tags, and some would be tissue-sampled, but most would simply be handled and released. The researchers would work primarily in five reference areas (reaches) and they would use mark/recapture techniques to study juvenile development and movement in Rock Creek. They would also conduct some boat electrofishing in the inundated pool downstream from the research area in Rock Creek—primarily to look at predator abundance. In addition, the researchers would take tissue samples from dead adults during spawning ground surveys. The purpose of the research is to assess the current distribution and relative abundance of MCR steelhead in selected portions of Rock Creek. That information would be integrated with information being collected on other ecological parameters and the researches would use that information as a whole to determine species status in the system and evaluate the effectiveness of several habitat restoration actions that have been going on there for a number of years. This research would benefit listed steelhead in that it would be used by fish managers such as the Rock Creek Subbasin Recovery Planning Group to prioritize to plan restoration, protection, and recovery actions for Rock Creek steelhead.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: September 15, 2015.
Angela Somma,
Chief, Endangered Species Division, Office of Protected Resources, National Marine Fisheries Service.

[FR Doc. 2015-23454 Filed 9-17-15; 8:45 am]

BILLING CODE 3510-22-P